DEPARTMENT OF AGRICULTURE

Animal and Plant Health Inspection Service

[Docket No. APHIS-2010-0059]

Notice of Availability of a Treatment Evaluation Document

AGENCY: Animal and Plant Health Inspection Service, USDA.

ACTION: Notice.

SUMMARY: We are advising the public that we have determined that it is necessary to revise a treatment schedule in the Plant Protection and Quarantine Treatment Manual and to retain the current treatment schedule with a different treatment number. We have prepared a treatment evaluation document that discusses the existing treatment schedule, describes the new treatment schedule, and explains why these change are necessary. We are making the treatment evaluation document available to the public for review and comment.

DATES: We will consider all comments that we receive on or before October 25, 2010.

ADDRESSES: You may submit comments by either of the following methods:

• Federal eRulemaking Portal: Go to (http://www.regulations.gov/fdmspublic/component/main?main=DocketDetail&d=APHIS-2010-0059) to submit or view comments and to view supporting and related materials available electronically.

• Postal Mail/Commercial Delivery: Please send one copy of your comment to Docket No. APHIS-2010-0059, Regulatory Analysis and Development, PPD, APHIS, Station 3A-03.8, 4700 River Road Unit 118, Riverdale, MD 20737-1238. Please state that your comment refers to Docket No. APHIS-2010-0059.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: Dr. Inder P. S. Gadh, Senior Risk Manager-Treatments, Regulations, Permits, and Manuals, PPQ, APHIS, 4700 River Road Unit 133, Riverdale, MD 20737-1236; (301) 734-8758.

SUPPLEMENTARY INFORMATION:

Background

The regulations in 7 CFR chapter III are intended, among other things, to prevent the introduction or dissemination of plant pests and noxious weeds into or within the United States. Under the regulations, certain plants, fruits, vegetables, and other articles must be treated before they may be moved into the United States or interstate. The phytosanitary treatments regulations contained in part 305 of 7 CFR chapter III (referred to below as the regulations) set out standards for treatments required in parts 301, 318, and 319 of 7 CFR chapter III for fruits, vegetables, and other articles.

In § 305.2, paragraph (b) states that approved treatment schedules are set out in the Plant Protection and Quarantine (PPQ) Treatment Manual.ᵃ Section 305.3 sets out a process for adding, revising, or removing treatment schedules in the PPQ Treatment Manual. In that section, paragraph (a) sets out the process for adding, revising, or removing treatment schedules when there is no immediate need to make a change. The circumstances in which an immediate need exists are described in § 305.3(b)(1).

ᵃ The Treatment Manual is available on the Internet at (http://www.aphis.usda.gov/import_export/plants/manuals/index.shtml) or by contacting the Animal and Plant Health Inspection Service, Plant Protection and Quarantine, Manuals Unit, 92 Thomas Johnson Drive, Suite 200, Frederick, MD 21702.

In accordance with § 305.3(a)(1), we are providing notice that we have determined that it is necessary to revise treatment schedule T314-a, which provides a heat treatment schedule for ash logs, including firewood, and all hardwood firewood that are moved from emerald ash borer quarantined areas. We have also determined that it is necessary to retain the current T314-a as a general treatment for various wood pests (rather than just emerald ash borer); we would redesignate this treatment schedule as T314-c in the Treatment Manual.

The reasons for these changes are described in a treatment evaluation document we have prepared to support this action. The treatment evaluation document may be viewed on the Regulations.gov Web site or in our reading room (see ADDRESSES above for instructions for accessing Regulations.gov and information on the location and hours of the reading room). You may request paper copies of the treatment evaluation document by calling or writing to the person listed under FOR FURTHER INFORMATION CONTACT. Please refer to the subject of the treatment evaluation document when requesting copies.

After reviewing the comments we receive, we will announce our decision regarding the changes to the Treatment Manual that are described in the treatment evaluation document in a subsequent notice. If our determination that it is necessary to revise T314-a and add a new T314-c remains unchanged following our consideration of the comments, then we will make available a new version of the PPQ Treatment Manual that reflects the revision of T314-a and the addition of T314-c.

Authority: 7 U.S.C. 7701-7772 and 7781-7786; 21 U.S.C. 136 and 136a; 7 CFR 2.22, 2.80, and 371.3.

Done in Washington, DC, this 18th day of August 2010.

Kevin Shea
Acting Administrator, Animal and Plant Health Inspection Service.

[FR Doc. 2010-21131 Filed 8-24-10; 8:45 am]

BILLING CODE 3410-34-S